SMALL BUSINESS ADMINISTRATION

[Disaster Declaration #12368 and #12369]

Puerto Rico Disaster Number PR-00012

AGENCY: U.S. Small Business Administration.

ACTION: Amendment 2.

SUMMARY: This is an amendment of the Presidential declaration of a major disaster for Public Assistance Only for the Commonwealth of Puerto Rico (FEMA-1946-DR), dated 10/26/2010.

Incident: Severe Storms, Flooding, Mudslides, and Landslides associated with Tropical Storm Otto.

Incident Period: 10/04/2010 through 10/08/2010.

Effective Date: 11/29/2010.

Physical Loan Application Deadline Date: 12/27/2010.

Economic Injury (EIDL) Loan Application Deadline Date: 07/26/2011.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the Commonwealth of Puerto Rico, dated 10/26/2010, is hereby amended to include the following areas as adversely affected by the disaster.

Primary Municipalities: Cayey, Ciales, Corozal, San Lorenzo.

All other information in the original declaration remains unchanged.

(Catalog of Federal Domestic Assistance Numbers 59002 and 59008)

Roger B. Garland,
Acting Associate Administrator for Disaster Assistance.

[FR Doc. 2010-30837 Filed 12-7-10; 8:45 am]

BILLING CODE 8025-01-P